DEPARTMENT OF TRANSPORTATION

Federal Aviation Administration

14 CFR Part 39

[Docket No. FAA-2004-18773; Directorate Identifier 2002-NM-312-AD; Amendment 39-13889; AD 2004-25-02]

RIN 2120-AA64

Airworthiness Directives; Airbus Model A320 Series Airplanes

AGENCY: Federal Aviation Administration (FAA), Department of Transportation (DOT).

ACTION: Final rule.

SUMMARY: The FAA is superseding an existing airworthiness directive (AD), which applies to certain Airbus Model A320 series airplanes. That AD currently requires repetitive inspections to detect fatigue cracking in certain areas of the fuselage, and corrective action if necessary. That AD also provides for an optional terminating action for the repetitive inspections. This new AD reduces the compliance threshold and repetitive intervals for the inspections required by the existing AD. This AD is prompted by a full-scale fatigue survey on the Model A320 fleet. We are issuing this AD to detect and correct fatigue cracking of the fuselage, which could result in reduced structural integrity of the airplane.

DATES: This AD becomes effective February 10, 2005.

The incorporation by reference of Airbus Service Bulletin A320-53-1032, Revision 02, dated December 5, 2001, as listed in the AD, is approved by the Director of the Federal Register as of February 10, 2005.

On February 12, 1999 (64 FR 1114, January 8, 1999), the Director of the Federal Register approved the incorporation by reference of Airbus Service Bulletin A320-53-1032, Revision 01, dated January 15, 1998.

ADDRESSES: For service information identified in this AD, contact Airbus, 1 Rond Point Maurice Bellonte, 31707 Blagnac Cedex, France. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-18773; the directorate identifier for this docket is 2002-NM-312-AD.

FOR FURTHER INFORMATION CONTACT: Technical information: Dan Rodina, Aerospace Engineer, International Branch, ANM-116, FAA, Transport Airplane Directorate, 1601 Lind Avenue SW, Renton, Washington 98055-4056; telephone (425) 227-2125; fax (425) 227-1149.

Plain language information: Marcia Walters, marcia.walters@faa.gov.

SUPPLEMENTARY INFORMATION: The FAA proposed to amend part 39 of the Federal Aviation Regulations (14 CFR Part 39) with an AD to supersede AD 99-01-19, amendment 39-10987 (64 FR 1114, January 8, 1999). The existing AD applies to certain Airbus Model A320 series airplanes. The proposed AD was published in the Federal Register on August 5, 2004 (69 FR 47391), to require reducing the compliance threshold and repetitive intervals for the inspections required by the existing AD. The proposed AD would also continue to provide for an optional terminating action for the repetitive inspections.

Comments

We provided the public the opportunity to participate in the development of this AD. We have considered the comment submitted on the proposed AD. The commenter supports the proposed AD.

Clarification of Certain Wording in Preamble of Proposed AD

For clarification, we are explaining an inadvertent error in certain wording in the preamble of the proposed AD, which differed from the AD requirements for the optional terminating action specified in paragraph (i) of the proposed AD. In the Summary, Relevant Service Information, and FAA's Determination and Requirements of the proposed AD sections, we specify that the proposed AD would reduce the allowable time for the optional terminating action (provided by the existing AD). However, in paragraph (i) of the proposed AD we did not include that “allowable time” for accomplishing the optional terminating action. This decision was based on the fact that the French airworthiness directive referenced in the proposed AD did not specify an allowable time for the optional terminating action, and although the existing AD did contain an allowable time, it was not necessary to restate that time in the proposed AD. In light of the above, we have removed the wording “* * * would reduce the allowable time for the optional terminating action * * *” from the new actions in the Summary section. The Relevant Service Information and FAA's Determination and Requirements of the proposed AD sections are not restated in the final rule.

Clarification of Paragraph (f)(2) of Proposed AD

For clarification, we are explaining an inadvertent error in paragraph (f)(2) of the proposed AD. Paragraph (f)(2) of the proposed AD specified doing the inspection at the earlier of the times specified in paragraphs (f)(1)(i) and (f)(1)(ii) of the AD; the correct citation is paragraphs (f)(2)(i) and (f)(2)(ii) of the AD.

Conclusion

We have carefully reviewed the available data, including the comment that has been submitted, and determined that air safety and the public interest require adopting the AD with the changes described previously. We have determined that these changes will neither increase the economic burden on any operator nor increase the scope of the AD.

Costs of Compliance

This AD affects about 269 airplanes of U.S. registry.

The inspection that is required by AD 99-01-19 and retained in this AD takes about 19 work hours per airplane, at an average labor rate of $65 per work hour. Based on these figures, the estimated cost of the currently required inspection is $1,235 per airplane.

The optional terminating action specified in Airbus Service Bulletin A320-53-1031, if done, takes about 1 work hour per fastener hole, at an average labor rate of $65 per work hour. The cost of required parts is about $4,219 (for one modification kit). Based on these figures, the cost of the optional terminating action would be a minimum of $4,284 per airplane.

Authority for This Rulemaking

The FAA's authority to issue rules regarding aviation safety is found in title 49 of the United States Code. Subtitle I, section 106 describes the authority of the FAA Administrator. Subtitle VII, Aviation Programs, describes in more detail the scope of the agency's authority.

This rulemaking is promulgated under the authority described in subtitle VII, part A, subpart III, section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-25-02 Airbus: Amendment 39-13889. Docket No. FAA-2004-18773; Directorate Identifier 2002-NM-312-AD.

Effective Date

(a) This AD becomes effective February 10, 2005.

Affected ADs

(b) This AD supersedes AD 99-01-19, amendment 39-10987.

Applicability

(c) This AD applies to Airbus Model A320-111, -211, -212, and -231 series airplanes on which Airbus Modification 21346 has not been done, certificated in any category.

Unsafe Condition

(d) This AD was prompted by a full-scale fatigue survey on the Model A320 fleet. We are issuing this AD to detect and correct fatigue cracking of the fuselage, which could result in reduced structural integrity of the airplane.

Compliance

(e) You are responsible for having the actions required by this AD performed within the compliance times specified, unless the actions have already been done.

Repetitive Inspections

(f) At the applicable time specified in paragraph (f)(1) or (f)(2) of this AD: Do a detailed inspection to find cracking on the outboard flanges around the fastener holes of frames 38 through 41, between stringers 12 and 21, using Airbus Service Bulletin A320-53-1032, Revision 02, dated December 5, 2001. Accomplishment of the inspection required by this paragraph ends the requirements of AD 99-01-19.

(1) For airplanes on which the inspection specified in Airbus Service Bulletin A320-53-1032, Revision 01, dated January 15, 1998; or Revision 02, dated December 5, 2001; has been done as of the effective date of this AD: Do the next inspection within 4,900 flight cycles after accomplishment of the last inspection, or within 1,100 flight cycles after the effective date of this AD, whichever is later.

(2) For airplanes on which no inspection specified in Airbus Service Bulletin A320-53-1032, Revision 01, dated January 15, 1998; or Revision 02, dated December 5, 2001; has been done as of the effective date of this AD: Do the inspection at the earlier of the times specified in paragraphs (f)(2)(i) and (f)(2)(ii) of this AD.

(i) Before the accumulation of 30,000 total flight cycles.

(ii) Before the accumulation of 24,800 total flight cycles, or within 3,500 flight cycles after the effective date of this AD, whichever is later.

(g) If no crack is found during the inspection required by paragraph (f)(1) or (f)(2) of this AD: Repeat the inspection thereafter at intervals not to exceed 4,900 flight cycles.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(h) If any crack is found during any inspection required by paragraph (f) of this AD, before further flight, repair using Airbus Service Bulletin A320-53-1032, Revision 01, dated January 15, 1998; or Revision 02, dated December 5, 2001. Accomplishment of a repair using the service bulletin ends the repetitive inspection requirements for the area repaired. If any crack is found during any inspection required by this AD, and the service bulletin specifies to contact Airbus for appropriate action: Before further flight, repair using a method approved by the Manager, International Branch, ANM-116, FAA, Transport Airplane Directorate.

Optional Terminating Action

(i) Accomplishment of Airbus Modification 21346 using Airbus Service Bulletin A320-53-1031, dated December 9, 1994; or Revision 02, dated December 5, 2001; constitutes terminating action for the repetitive inspection requirements of this AD.

(j) Accomplishment of the optional terminating action specified in AD 99-01-19 before the effective date of this AD, using Airbus Service Bulletin A320-53-1031, dated December 9, 1994; or Revision 02, dated December 5, 2001; is considered acceptable for compliance with paragraph (i) of this AD.

Alternative Methods of Compliance (AMOCs)

(k) The Manager, International Branch, ANM-116, has the authority to approve AMOCs for this AD, if requested using the procedures found in 14 CFR 39.19.

Related Information

(l) French airworthiness directive 2002-259(B), dated May 15, 2002, also addresses the subject of this AD.

Material Incorporated by Reference

(m) You must use Airbus Service Bulletin A320-53-1032, Revision 01, dated January 15, 1998; or Airbus Service Bulletin A320-53-1032, Revision 02, dated December 5, 2001; to perform the actions that are required by this AD, unless the AD specifies otherwise.

(1) The Director of the Federal Register approves the incorporation by reference of Airbus Service Bulletin A320-53-1032, Revision 02, dated December 5, 2001, in accordance with 5 U.S.C. 552(a) and 1 CFR part 51.

(2) On February 12, 1999 (64 FR 1114, January 8, 1999), the Director of the Federal Register approved the incorporation by reference of Airbus Service Bulletin A320-53-1032, Revision 01, dated January 15, 1998.

(3) For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on December 29, 2004.
Kevin M. Mullin,
Acting Manager, Transport Airplane Directorate, Aircraft Certification Service.

[FR Doc. 05-282 Filed 1-5-05; 8:45 am]

BILLING CODE 4910-13-P